DEPARTMENT OF THE INTERIOR

National Park Service

National Register of Historic Places; Notification of Pending Nominations and Related Actions

Nominations for the following properties being considered for listing or related actions in the National Register were received by the National Park Service before September 1, 2007. Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by October 2, 2007.

J. Paul Loether,
Chief, National Register of Historic Places/National, Historic Landmarks Program.

DISTRICT OF COLUMBIA

District of Columbia

Asbury, Francis, Memorial, (Memorials in Washington, DC) Reservation 309-b, 16th & Mt. Pleasant Sts., NW., Washington, 07001052.

Cuban Friendship Urn, (Memorials in Washington, DC) Reservation 332, Ohio Dr. at 14th St. Bridge SW., Washington, 07001053.

Gibbons, James, Cardinal, (Memorials in Washington, DC) Reservation 309-G, 16th St. & Park Rd., NW., Washington, 07001051.

Gompers, Samuel, Memorial, (Memorials in Washington, DC) Massachusetts Ave., 10th & L Sts., NW., Reservation 69, Washington, 07001054.

Hahnemann, Samuel, Monument, (Memorials in Washington, DC) Reservation 64, Massachusetts & Rhode Island Aves. at Scott Cir., NW., Washington, 07001055.

Longfellow, Henry Wadsworth, Memorial, (Memorials in Washington, DC) Reservation 150, Connecticut Ave., M & 18th Sts., NW., Washington, 07001056.

Marconi, Guglielmo, Memorial, (Memorials in Washington, DC) Reservation 309A, 16th & Lamont Sts., NW., Washington, 07001057.

Newlands, Francis Griffith, Memorial Fountain, (Memorials in Washington, DC) Chevy Chase Cir., Connecticut & Western Aves., NW., (Res. 335A), Washington, 07001058.

Pennsylvania Avenue National Historic Site, Roughly bounded by Constitution Ave., 15th, F & 3rd Sts., Washington, 07001050.

Temperance Fountain, (Memorials in Washington, DC) 7th St. & Indiana Ave., NW., Washington, 07001061.

Titanic Memorial, (Memorials in Washington, DC) Reservation 717, SW Waterfront Park, Water & P Sts., SW., Washington, 07001060.

Union Station Plaza and Columbus Fountain (Boundary Increase), (Memorials in Washington, DC) Massachusetts, Louisiana & Delaware Aves. & 1st St., NW., Washington, 07001062.

Webster, Daniel, Memorial, (Memorials in Washington, DC) Reservation 62, Massachusetts & Rhode Island Aves. at Scott Cir., NW., Washington, 07001063.

de San Martin, General Jose, Memorial, (Memorials in Washington, DC) Reservation 106, Virginia Ave. & 20th St., NW., Washington, 07001059.

FLORIDA

Hillsborough County

Lamb, A.M., House, 2410 W. Shell Rd., Ruskin, 07001049.

KANSAS

Douglas County

Oread Historic District, (Lawrence, Kansas MPS) Roughly between W. 9th & 12th Sts. & the alleys behind Louisiana & Kentucky Sts., Lawrence, 070010.

Ellsworth County

Ellsworth Downtown Historic District, Generally including blks. between N Main & 3rd Sts. from Lincoln to Kansas Aves. & the W. side of Kansas Ave., Ellsworth, 07001065.

Johnson County

Lanter, Franklin R., House, 562 W Park, Olathe, 07001066.

McPherson County

Power Plant No. 1, 414 W. Elizabeth, McPherson, 07001067.

Scott County

Battle of Punished Woman's Fork, Address Restricted, Scott City, 07001068.

Sedgwick County

Brown Building, 105 S. Broadway St., Wichita, 07001069.

Farmer's and Banker's Historic District, 1st & Market Sts., Wichita, 07001070.

Jackman, C.M., House, 158 N. Roosevelt, Wichita, 07001071.

Wyandotte County

Schleifer-McAlpine House, 608 Splitlog Ave., Kansas City, 07001072.

MARYLAND

Montgomery County

Glenview Farm, 603 Edmonston Dr., Rockville, 07001073.

MISSOURI

St. Louis Independent City

Endicott-Johnson Shoe Distribution Plant, 1132 Spruce St., St. Louis, 07001074. St. Mark the Evangelist Catholic Church, Convent and Academy, 1313 Academy Ave. & 5100 Minerva Ave., St. Louis, 07001075.

NORTH CAROLINA

Ashe County

West Jefferson Historic District, Roughly bounded by State St., 3rd Ave., 2nd St. & Wilton Ave., West Jefferson, 07001076.

OREGON

Washington County

Manning-Kamna Farm, 29375 NW., Evergreen Rd., Hillsboro, 07001077.

PENNSYLVANIA

Bucks County

Craven Hall, 599 Newton Rd. (Warminster Township), Warminster Heights, 07001078.

Montgomery County

Schall, William and Caroline, House, 100 Main St., Green Line, 07001079.

Venango County

Connely-Holeman House, 317 Chestnut St., Pleasantville Borough, 07001080.

RHODE ISLAND

Providence County

Downtown Providence Historic District (Boundary Increase), Along Friendship, Pine & Richmond Sts., Providence, 07001081.

SOUTH CAROLINA

Charleston County

Bache, Alexander, U.S. Coast Survey Line, 8377 State Cabin Rd., Edisto Island, 07001082.

Richland County

Cornwell, Harriet M., Tourist House, (Segregation in Columbia, South Carolina MPS) 1713 Wayne St., Columbia, 07001083.

WISCONSIN

Eau Claire County

Drummond Business Block, 409-417 Galloway St., Eau Claire, 07001084.

Union Auto Company, 505 S. Barstow St., Eau Claire, 07001085.

Water Street Historic District, 402-436 & 401-421 Water St., Eau Claire, 07001086.

A request for removal has been made for the following resource:

PENNSYLVANIA

Lancaster County

Watt and Shand Department Store, 2-12 E. King St., 23-27 Penn Sq., 1-21 S. Queen St., 18-24 S. Christian St. Lancaster, 99000322.

[FR Doc. E7-18200 Filed 9-14-07; 8:45 am]

BILLING CODE 4312-51-P